DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for the following projects: (1) sbX E Street Corridor Bus Rapid Transit (BRT) Corridor, Omnitrans, San Bernardino, CA; (2) Georgia Transit Connector: Atlanta Streetcar, City of Atlanta and Metropolitan Atlanta Rapid Transit Authority (MARTA), Atlanta, GA; (3) Baldwin Park Transit Center Project, City of Baldwin Park, Baldwin Park, CA; (4) Regional Intermodal Transportation Center and Runway 33 Safety Area Restoration at Bob Hope Airport, Burbank-Glendale-Pasadena Airport Authority, Burbank, CA; (5) Downtown Transit Center, Des Moines Area Regional Transit (DART) Authority, Des Moines, IA; (6) Improvements at Farmdale Avenue and Exposition Boulevard for the Exposition Light Rail Transit Project, Los Angeles County Metropolitan Transportation Authority, Los Angeles, CA; (7) Relocation of Traction Power Substations 3 and 4 for the Exposition Light Rail Project, Los Angeles County Metropolitan Transportation Authority, Los Angeles, CA; (8) I-90 Two-Way Transit and High Occupancy Vehicle (HOV) Operations Project, Central Puget Sound Regional Transit Authority (Sound Transit), King County, WA; (9) University of Washington to Sound Transit Link Pedestrian Connection Project (Montlake Triangle Project) Sound Transit North Link Light Rail, Sound Transit, Seattle, WA; (10) North Metro Corridor, Regional Transportation District, Commerce City, Thornton, Northglenn, and Adams County, CO; (11) St. Louis Loop Trolley, East-West Gateway Council of Governments, City of St. Louis and University City, MO; (12) Bus Operations and Maintenance Facility, Worchester Regional Transit Authority (WRTA), Worchester, MA; and (13) Jacksonville Bus Rapid Transit North Corridor, Jacksonville Transportation Authority, Jacksonville, FL. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of the FTA actions announced herein for the listed public transportation project will be barred unless the claim is filed on or before December 16, 2011.

FOR FURTHER INFORMATION CONTACT: Katie Grasty, Environmental Protection Specialist, Office of Planning and Environment, 202-366-9139, or Christopher Van Wyk, Attorney-Advisor, Office of Chief Counsel, 202-366-1733. FTA is located at 1200 New Jersey Avenue, SE., Washington, DC 20590. Office hours are from 9 a.m. to 5:30 p.m., EST, Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period of 180 days for challenges of project decisions subject to previous notices published in the Federal Register. The projects and actions that are the subject of this notice are:

1. Project name and location: sbX E Street Corridor Bus Rapid Transit (BRT) Corridor, San Bernardino, CA. Project sponsor: Omnitrans. Project description: The project is a 15.7-mile transit improvement project connecting the northern portion of the City of San Bernardino with the City of Loma Linda. The route begins near Palm Avenue and Kendall Drive and ends near the Veterans Administration hospital at Barton Road and Benton Street. The project is combined side- and center-running BRT containing segments of exclusive and mixed-flow lanes. The sixteen station stops will be placed approximately one mile apart. Final agency actions: Section 106 finding of no historic properties affected; no use of Section 4(f) properties; project-level air quality conformity; and a Finding of No Significant Impact (FONSI) dated September 2009.

Supporting documentation: Environmental Assessment dated April 2009.

2. Project name and location: Georgia Transit Connector: Atlanta Streetcar, Atlanta, GA. Project sponsor: City of Atlanta and Metropolitan Atlanta Rapid Transit Authority (MARTA). Project description: The project consists of a north/south alignment of 2.7 miles from the Five Points MARTA rail station in Downtown along Broad Street and Peachtree Street to the Arts Center MARTA rail station in Midtown. The east/west alignment extends 1.3 miles between the Martin Luther King Jr. National Historic Site to the east and Centennial Olympic Park to the west. Final agency actions: Section 106 finding of no adverse effect; no use of Section 4(f) properties; and a Finding of No Significant Impact (FONSI) dated April 2011. Supporting documentation: Environmental Assessment dated December 2010.

3. Project name and location: Baldwin Park Transit Center Project, Baldwin Park, CA. Project sponsor: City of Baldwin Park. Project description: The project consists of the construction and subsequent operation of the Baldwin Park Transit Center and involves the construction of a parking structure, pedestrian and bicycle facilities, a pedestrian bridge, and bus layover facilities. Final agency actions: Section 106 finding of no adverse effect; no use of Section 4(f) properties; project-level air quality conformity; and a Finding of No Significant Impact (FONSI) dated April 2011. Supporting documentation: Environmental Assessment dated January 2011.

4. Project name and location: Regional Intermodal Transportation Center and Runway 33 Safety Area Restoration at Bob Hope Airport, Burbank, CA. Project sponsor: Burbank-Glendale-Pasadena Airport Authority. Project description: FTA is adopting the Environmental Assessment of the Federal Aviation Administration (FAA) on the Regional Intermodal Transportation Center and Runway 33 Runway Safety Area Restoration Project at Bob Hope Airport. The proposed FTA action is the partial funding of the local and regional transit bus station and bus passenger waiting lounge, which are elements of the proposed Regional Intermodal Transportation Center. Final agency actions: Section 106 finding of no historic properties affected; no use of Section 4(f) properties; and a Finding of No Significant Impact (FONSI) dated December 2010. Supporting documentation: Environmental Assessment dated December 2010.

5. Project name and location: Downtown Transit Center, Des Moines, IA. Project sponsor: Des Moines Area Regional Transit (DART) Authority. Project description: The project is a transit hub located at 616 Cherry Street on 1.9 acres. The hub will include bus bays, a loading zone, a public waiting area, a bicycle storage facility, and office and vendor space. Final agency actions: Section 106 finding of no historic properties affected and no use of Section 4(f) properties. Supporting documentation: Documented Categorical Exclusion dated October 2010.

6. Project name and location: Improvements at Farmdale Avenue and Exposition Boulevard for the Exposition Light Rail Transit Project, Los Angeles, CA. Project sponsor: Los Angeles County Metropolitan Transportation Authority. Project description: The project consists of a new passenger station at the intersection of Farmdale and Exposition Boulevard for the Exposition Light Rail Transit project that runs from downtown Los Angeles to Culver City. Final agency actions: Section 106 finding of no historic properties affected; Section 4(f) de minimis impact determination; and a Finding of No Significant Impact (FONSI) dated November 2010. Supporting documentation: Supplemental Environmental Assessment dated October 2010.

7. Project name and location: Relocation of Traction Power Substations 3 and 4 for the Exposition Light Rail Project, Los Angeles, CA. Project sponsor: Los Angeles County Metropolitan Transportation Authority. Project description: The project consists of the relocation of two Traction Power Substations (TPSS) for the Exposition Light Rail Transit project that runs from downtown Los Angeles to Culver City. The locations for two of the eight TPSS sites along the project alignment have changed since certification of the Final Environmental Impact Statement/Environmental Impact Report (FEIS/EIR). Eight TPSS were proposed in the FEIS/EIR. Final agency actions: Section 106 finding of no historic properties affected; no use of Section 4(f) properties; and a Finding of No Significant Impact (FONSI) dated September 2008. Supporting documentation: Environmental Assessment dated September 2008.

8. Project name and location: I-90 Two-Way Transit and High Occupancy Vehicle (HOV) Operations Project, King County, WA. Project sponsor: Central Puget Sound Regional Transit Authority (Sound Transit). Project description: The project consists of two new HOV lanes on the outer roadways of I-90 and new HOV direct access exit ramps to Mercer Island. Final agency actions: Section 106 finding of no historic properties affected; no use of Section 4(f) properties; project-level air quality conformity; and a Record of Decision (ROD) dated April 2011. Supporting documentation: Final Environmental Impact Statement dated May 2004.

9. Project name and location: University of Washington to Sound Transit Link Pedestrian Connection Project (Montlake Triangle Project) Sound Transit North Link Light Rail, Seattle, WA. Project sponsor: Sound Transit. Project description: The project is the North Link of Sound Transit's route through Seattle that includes a station at University of Washington. The University of Washington Station identified in the 2006 FEIS included a grade-separated pedestrian crossing of Montlake Boulevard, via a tunnel or bridge. A reevaluation was issued due to design changes in the Montlake Triangle and Ranier Vista in the vicinity of the University of Washington Stadium Station. Final agency actions: FTA determination that neither a Supplemental Environmental Impact Statement nor a Supplemental Environmental Assessment is necessary. Supporting documentation: Reevaluation dated January 2010.

10. Project name and location: North Metro Corridor, Commerce City, Thornton, Northglenn, and Adams County, CO. Project sponsor: Regional Transportation District. Project description: The project is an 18-mile commuter rail train and track system between Denver Union Station and the State Highway 7/162nd Avenue area. Final agency actions: Section 106 Memorandum of Agreement dated April 2011; Section 4(f) no feasible and prudent avoidance alternatives and de minimis impact determinations; project-level air quality conformity; and a Record of Decision (ROD) dated April 2011. Supporting documentation: Final Environmental Impact Statement dated January 2011.

11. Project name and location: St. Louis Loop Trolley, City of St. Louis and University City, MO. Project sponsor: East-West Gateway Council of Governments. Project description: The project is a two-mile fixed guideway trolley that will be constructed on Delmar Boulevard and DeBaliviere Avenue and run from the History Museum in Forest Park in St. Louis to Trinity Avenue in University City. Final agency actions: Section 106 finding of no adverse effect; Section 4(f) de minimis impact determination; and a Finding of No Significant Impact (FONSI) dated May 2011. Supporting documentation: Environmental Assessment dated March 2011.

12. Project name and location: Bus Operations and Maintenance Facility, Worchester, MA. Project sponsor: Worchester Regional Transit Authority (WRTA). Project description: The project is a bus operations and maintenance facility at 40 Quinsigamond Avenue in Worchester. The new facility would consist of a two-story building that will be used to store and maintain the WRTA's entire fleet of 53 fixed route buses and 16 vans. Final agency actions: Section 106 finding of no historic properties affected and no use of Section 4(f) properties. Supporting documentation: Documented Categorical Exclusion dated March 2011.

13. Project name and location: Jacksonville Bus Rapid Transit (BRT) North Corridor, Jacksonville, FL. Project sponsor: Jacksonville Transportation Authority. Project description: The project is a 9.28-mile alignment on existing surface streets and predominately within existing right-of-way. The project will connect to the BRT Phase One Downtown project and includes eight new or enhanced station areas. Final agency actions: Section 106 finding of no historic properties affected; no use of Section 4(f) properties; and a Finding of No Significant Impact (FONSI) dated May 2011. Supporting documentation: Environmental Assessment dated May 2011.

Issued on: June 15, 2011.
Elizabeth S. Riklin,
Deputy Associate Administrator for Planning and Environment, Washington, DC.

[FR Doc. 2011-15296 Filed 6-17-11; 8:45 am]

BILLING CODE P